DEPARTMENT OF ENERGY

Federal Energy Regulatory Commission

[Project No. 13521-000]

Oceanlinx Hawaii LLC; Notice of Preliminary Permit Application Accepted for Filing and Soliciting Comments, Motions To Intervene, and Competing Applications

September 15, 2009.

On August 21, 2009, Oceanlinx Hawaii LLC filed an application for a preliminary permit, pursuant to section 4(f) of the Federal Power Act, proposing to study the feasibility of the Oceanlinx Maui Wave Energy Project (Oceanlinx Wave Project or project), located in the Pacific Ocean about 0.6 statute miles north of Pauwela Point and adjacent lands in the County of Maui, Alaska. The sole purpose of a preliminary permit, if issued, is to grant the permit holder priority to file a license application during the permit term. A preliminary permit does not authorize the permit holder to perform any land disturbing activities or otherwise enter upon lands or waters owned by others without the owners' express permission.

The proposed project would consist of the following: (1) A proposed, 30-meter-wide (98-foot-wide) by 100-meter-long (328-foot-long) by 10-meter-high (33-foot-high—relative to the ocean surface) Wage Energy Converter (WEC) consisting of a floating pontoon moored to the seafloor by a cable and anchoring system and containing eight Oscillating Water Column (OWC) units with a combined nameplate capacity of 2.7 megawatts; (2) a proposed 15-kilovolt (kV), 3,600 or 4,100-foot-long (depending upon the transmission route chosen) submarine and overhead transmission line; and (3) appurtenant facilities. The proposed project would have an estimated average annual generation of up to about 4,000 megawatt-hours.

Applicant Contact: Stuart Weylandsmith, Manager, Oceanlinx Hawaii LLC, Suite 2200, ASB Tower, 1001 Bishop Street, Honolulu, HI 96813; Phone: +61 2 9549 6308; e-mail: stuart.weylandsmith@oceanlinx.com.

FERC Contact: Nick Jayjack, 202-502-6073.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13521) in the docket number field to access the document. For assistance, call toll-free 1-866-208-3372.

Kimberly D. Bose,
Secretary.

[FR Doc. E9-22715 Filed 9-21-09; 8:45 am]

BILLING CODE 6717-01-P